FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 17, 2012.

A. Federal Reserve Bank of New York (Ivan Hurwitz, Vice President) 33 Liberty Street, New York, New York 10045-0001:

1. Muhammad Habib, Kusnacht, Switzerland, and Hamza Habib, Dubai, U.A.E. United Arab Emirates; to retain a controlling interest in Maham Beteiligungsgessellschaft AG, Zurich, Switzerland, and thereby indirectly retain control of Habib American Bank, New York, New York.

B. Federal Reserve Bank of Chicago (Colette A. Fried, Assistant Vice President) 230 South LaSalle Street, Chicago, Illinois 60690-1414:

1. Voting Trust and David E. Kirschner, as trustee, both of Springfield, Illinois; to join the existing Kirschner Family Control Group by acquiring voting shares of Town and Country Financial Corporation, and thereby indirectly acquire voting shares of Town and Country Bank, both in Springfield, Illinois, and Logan County Bank, Lincoln, Illinois.

C. Federal Reserve Bank of San Francisco (Kenneth Binning, Vice President, Applications and Enforcement) 101 Market Street, San Francisco, California 94105-1579:

1. Tieming Chen, Missouri, Texas; to acquire voting shares of Orient Bancorporation, and thereby indirectly acquire voting shares of Bank of the Orient, both in San Francisco, California.

Board of Governors of the Federal Reserve System, September 27, 2012.
Robert deV. Frierson,
Secretary of the Board.

[FR Doc. 2012-24200 Filed 10-1-12; 8:45 am]

BILLING CODE 6210-01-P